DEPARTMENT OF THE INTERIOR

Bureau of Land Management

[CO-600-1120-PG-241A]

Notice of Meeting, Southwest Resource Advisory Council (Colorado)

AGENCY: Bureau of Land Management, Interior.

ACTION: Notice of public meeting.

SUMMARY: In accordance with the Federal Land Policy and Management Act and the Federal Advisory Committee Act of 1972, the U.S. Department of the Interior, Bureau of Land Management (BLM) Southwest Resource Advisory Council (RAC), will meet as indicated below.

DATES: The meeting will be held on May 21, 2004, at the Bill Heddles Recreation Center, Delta, Colorado, and will begin at 9 a.m. The public comment periods will begin at approximately 9:30 a.m. and 3 p.m.

SUPPLEMENTARY INFORMATION: The 15-member RAC advises the Secretary of the Interior, through the BLM, on a variety of planning and management issues associated with public land management in Southwest, Colorado. Planned agenda topics include: Manager reports, Public comment, Discussion of old business, Uncompahgre Project update, County Pilot Project description and update, Northern Basin Environmental Impact Statement public participation process, Interagency fire preparedness update, and Updates on several ongoing planning efforts in southwestern Colorado.

All meetings are open to the public. The public can make oral statements to the Council at approximately 9:30 a.m. and 3 p.m., or written statements may be submitted for the Council's consideration. Depending on the number of persons wishing to comment and time available, the time for individual oral comments may be limited. Summary minutes for the Council Meeting will be maintained in the Western Slope Center Office (BLM), 2465 S. Townsend, Montrose, Colorado 81401, and will be available for public inspection and reproduction during regular business hours within thirty (30) days following the meeting. The Bill Heddles Recreation Center is located at 530 Gunnison River Dr., Delta, Colorado.

FOR FURTHER INFORMATION CONTACT: Dave Kauffman, Uncompahgre Field Office, Bureau of Land Management, 2505 S. Townsend, Montrose, Colorado 81401. Phone (970) 240-5340.

Dated: April 13, 2004.
Mark W. Stiles,
San Juan Public Lands Center Manager.

[FR Doc. 04-9175 Filed 4-21-04; 8:45 am]

BILLING CODE 4310-JB-P